SOCIAL SECURITY ADMINISTRATION

[Docket No. SSA-2010-0058]

Occupational Information Development Advisory Panel Meeting

AGENCY: Social Security Administration (SSA).

ACTION: Notice of upcoming panel teleconference meeting.

DATES: September 29, 2010, 10 p.m.-12 p.m. (EDT). Call-in number: (866) 283-9791, Conference ID: 1482323, Leader/Host: Debra Tidwell-Peters.

SUPPLEMENTARY INFORMATION:

Type of meeting: The teleconference meeting is open to the public.

Purpose: This discretionary Panel, established under the Federal Advisory Committee Act of 1972, as amended, will report to the Commissioner of Social Security. The Panel will provide independent advice and recommendations on plans and activities to replace the Dictionary of Occupational Titles used in the Social Security Administration's (SSA) disability determination process. The Panel will advise the Agency on creating an occupational information system tailored specifically for SSA's disability programs and adjudicative needs. The Panel's advice and recommendations will relate to SSA's disability programs in the following areas: Medical and vocational analysis of disability claims; occupational analysis, including definitions, ratings and capture of physical and mental/cognitive demands of work and other occupational information critical to SSA disability programs; data collection; use of occupational information in SSA's disability programs; and any other area(s) that would enable SSA to develop an occupational information system suited to its disability programs and would improve the medical-vocational adjudication policies and processes.

Agenda: The Designated Federal Officer will post the meeting agenda on the Internet at http://www.ssa.gov/oidap/meeting_information.htm at least one week prior to the start date. You can also receive a copy electronically by e-mail or by fax, upon request. SSA will keep records of all proceedings and make them available for public inspection by appointment at the Panel's office.

Contact Information: Anyone requiring information regarding the Panel should contact the Panel staff by any one of these three methods:

• Mail: Occupational Information Development Advisory Panel, Social Security Administration, 6401 Security Boulevard, Operations Building, 3-E-26, Baltimore, MD 21235.

• Fax: (410) 597-0825.

• E-mail: OIDAP@ssa.gov.

Deborah Tidwell,
Designated Federal Officer.

[FR Doc. 2010-22711 Filed 9-10-10; 8:45 am]

BILLING CODE 4191-02-P